DEPARTMENT OF HEALTH AND HUMAN SERVICES

National Institutes of Health

Environmental Impact Statement: Ravalli County, MT

AGENCY: National Institutes of Health (NIH), DHHS.

ACTION: Notice of intent.

SUMMARY: Department of Health and Human Services (DHHS) National Institutes of Health (NIH) announces its intent to prepare an environmental impact statement (EIS) to evaluate a proposed new containment laboratory on the campus of Rocky Mountain Laboratories (RML) in Hamilton, Montana. This EIS is being prepared and considered in accordance with the requirements of the National Environmental Policy Act (NEPA) of 1969, and the President's Council on Environmental Quality Regulations (40 CFR parts 1500-1508).

DATES: A public scoping meeting will be held on October 21, 2002 beginning at 7 pm in Hamilton, Montana. Comments on the scope of the EIS for the proposed project should be received no later than November 4, 2002. To ensure that the full range of issues related to this proposed action and the scope of this EIS are addressed, comments are invited from all interested parties, including appropriate Federal, State, and local agencies, and private organizations and citizens. Comments and questions should be directed to the NIH at the address listed below.

ADDRESSES: The scoping meeting will be held at Hamilton High School, Commons Room. Comments should be addressed to: Valerie Nottingham, Chief, Pollution Control Section, EPB, ORS, National Institutes of Health, B13/2W64, 9000 Rockville Pike, Bethesda, Maryland 20892.

FOR FURTHER INFORMATION CONTACT: Valerie Nottingham, Chief, Pollution Control Section, EPB, ORS, National Institutes of Health, B13/2W64, 9000 Rockville Pike, Bethesda, Maryland 20892, telephone: 301-496-7775.

SUPPLEMENTARY INFORMATION: Rocky Mountain Laboratories (RML) in Hamilton, MT is one of the oldest research components of the NIH, and plays a key role in the nation's biomedical research program. RML's mission is to study infectious microbes that cause diseases in humans and animals. The RML campus currently includes Biosafety Level 1, 2, and 3 laboratories and administrative and support areas. The lab employs approximately 230 people.

The Federal Government has approved 66.5 million dollars to fund a proposed expansion of the existing Rocky Mountain Laboratory for biodefense and emerging infectious diseases research. The proposed expansion includes a new suite of laboratories designed and constructed to the maximum biosafety level, Biosafety Level 4 (BSL-4).

NIH originally determined that an Environmental Assessment should be prepared to evaluate whether an EIS was needed for this project. A public scoping/open house meeting was held on July 15, 2002 at the Hamilton Community Center to solicit public comment and discussion of issues. Notification of the meeting was via local print and radio media. A web site for comments was also provided.

After review of public comment and information collected to date, NIH has determined that an EIS should be prepared to assess potential impacts of the proposed project.

The proposed action is to construct and operate a new laboratory building that includes BSL-4, BSL-3, and BSL-2 laboratories and administrative and support offices for all of the associated activities. In addition, upgrades to the RML facility infrastructure including heating and cooling facilities, electrical service, security, and emergency power generation will be made to support the laboratory.

Preliminary alternatives will be considered including the No Action Alternative under which the new facility would not be built.

Authority: 42 U.S.C. 4321-4347 (National Environmental Policy Act).

Dated: September 27, 2002.
Stephen A. Ficca,
Associate Director for Research Services, National Institutes of Health.

[FR Doc. 02-25233 Filed 10-3-02; 8:45 am]

BILLING CODE 4140-01-P